DEPARTMENT OF COMMERCE

National Oceanic and Atmospheric Administration

[I.D.060905A]

Marine Mammals; File No. 1073-1777

AGENCY: National Marine Fisheries Service (NMFS), National Oceanic and Atmospheric Administration (NOAA), Commerce.

ACTION: Issuance of permit.

SUMMARY: Notice is hereby given that Dr. Kathy Carlstead, Honolulu Zoo, 151 Kapahulu Ave., Honolulu, HI 96815, has been issued a permit to import marine mammal specimens for purposes of scientific research.

ADDRESSES: The amendment and related documents are available for review upon written request or by appointment in the following office(s):

Permits, Conservation and Education Division, Office of Protected Resources, NMFS, 1315 East-West Highway, Room 13705, Silver Spring, MD 20910; phone (301)713-2289; fax (301)427-2521; and

Pacific Islands Region, NMFS, 1601 Kapiolani Blvd., Rm 1110, Honolulu, HI 96814-4700; phone (808)973-2935; fax (808)973-2941.

FOR FURTHER INFORMATION CONTACT: Jennifer Skidmore or Amy Sloan, (301)713-2289.

SUPPLEMENTARY INFORMATION: On January 24, 2005, notice was published in the Federal Register (70 FR 3365) that a request for a scientific research permit to import samples from marine mammal species under NMFS jurisdiction had been submitted by the above-named individual. The requested permit has been granted under the authority of the Marine Mammal Protection Act of 1972, as amended (16 U.S.C. 1361 et seq.), and the Regulations Governing the Taking and Importing of Marine Mammals (50 CFR part 216).

The Holder is authorized to import into the United States approximately 24 blood samples, 150 fecal samples, and 150 saliva samples from 3 captive false killer whales Pseudorca crassidens from Ocean Adventure in the Philippines. The applicant will be studying stress in false killer whales using behavioral observations, non-invasive glucocorticoid assessment and analysis of blood profile panels. The permit has been issued for five years.

In compliance with the National Environmental Policy Act of 1969 (42 U.S.C. 4321 et seq.), a final determination has been made that the activity proposed is categorically excluded from the requirement to prepare an environmental assessment or environmental impact statement.

Dated: June 16, 2005.
Stephen L. Leathery,
Chief, Permits, Conservation and Education Division, Office of Protected Resources, National Marine Fisheries Service.

[FR Doc. 05-12744 Filed 6-27-05; 8:45 am]

BILLING CODE 3510-22-S